DEPARTMENT OF ENERGY

Federal Energy Regulatory Commission

[ Docket No. RP04-69-000]

Piedmont Natural Gas Company, Inc. v. Transcontinental Gas Pipe Line Corporation; Notice of Complaint

December 4, 2003.

Take notice that on November 25, 2003, pursuant to Section 5 of the Natural Gas Act, 15 U.S.C. 717d, and Rule 206 of the Commission regulations, 18 CFR 385.206, Piedmont Natural Gas Company, Inc. (Piedmont) filed a Complaint Requesting Fast Track Procedures against Transcontinental Gas Pipe Line Corporation (Transco). Piedmont alleges that Transco's existing tariff is unjust and unreasonable to the extent that it does not provide for adjusted daily reservation rates for leap years.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: December 15, 2003.

Magalie R. Salas,
Secretary.

[FR Doc. E3-00520 Filed 12-10-03 8:45 am]

BILLING CODE 6717-01-P